DEPARTMENT OF THE INTERIOR

Office of the Secretary

Notice of Establishment

AGENCY: Office of the Secretary, Interior.

ACTION: Notice of Establishment of Great Sand Dunes National Park.

SUMMARY: Pursuant to Public Law 106-530 (114 Stat. 2529, 16 U.S.C. 410hhh-2), the Great Sand Dunes National Park and Preserve Act of 2000, on September 13, 2004, I made the following determination establishing the Great Sand Dunes National Park in Saguache and Alamosa counties in southern Colorado:

Whereas, the Great Sand Dunes National Monument was established for “the preservation of the great sand dunes” on March 17, 1932;

Whereas, the great sand dunes “ an ancient landscape sculpted by the relentless forces of wind and water—offer breath-taking beauty, rare plant and animal life, and rich geological and cultural history;

Whereas, Congress, in the Great Sand Dunes National Park and Preserve Act, authored by Senator Wayne Allard, Senator Ben Nighthorse Campbell, and Representative Scott McInnis of Colorado, inspired by the people of the San Luis Valley, sought to provide long-term protection of the area and ensure opportunities for visitors to enjoy its splendor;

Whereas, Congress authorized the Secretary of the Interior to designate the existing national monument and additional lands as a national park once sufficient land with a sufficient diversity of resources was acquired;

Whereas, the National Park Service now has assumed management for 31,000 acres adjacent to the monument as provided by the Act;

Whereas, the Director of the National Park Service recommends that the Great Sand Dunes National Monument, together with additional lands, be designated a national park;

Therefore, having determined that the United States has acquired sufficient land having a sufficient diversity of resources to warrant designation of the land as a national park, by the authority vested in me under Section 4 of the Great Sand Dunes National Park and Preserve Act (114 Stat. 2529), and with the approval of President George W. Bush, I do hereby designate the existing Great Sand Dunes National Monument, together with additional lands cited in said Act, as the Great Sand Dunes National Park.

Pursuant to section 5(b) of Public Law 106-530 (16 U.S.C. 410hhh-3(b)), as soon as practicable, a map and legal description of the Great Sand Dunes National Park will be on file and available for public inspection at the address below.

DATES: This action is effective upon publication in the Federal Register.

FOR FURTHER INFORMATION CONTACT: Steve Chaney, Superintendent, Great Sand Dunes National Park & Preserve, 11500 Hwy 150, Mosca, Colorado 81146-9798.

Dated: September 16, 2004.
Gale A. Norton,
Secretary of the Interior.

[FR Doc. 04-21473 Filed 9-23-04; 8:45 am]

BILLING CODE 4312-CL-P